DEPARTMENT OF AGRICULTURE

Animal and Plant Health Inspection Service

7 CFR Part 330

[Docket No. 02-011-3]

Redelivery of Cargo for Inspection

AGENCY: Animal and Plant Health Inspection Service, USDA.

ACTION: Proposed rule; withdrawal.

SUMMARY: We are withdrawing a proposed rule that would have allowed inspectors from the Animal and Plant Health Inspection Service (APHIS) to require that cargo be returned to the port of first arrival or, if convenient, another location as specified by APHIS for inspection when necessary. The proposed rule was intended to simplify the inspection process by allowing APHIS inspectors to deal directly with owners, shippers, brokers, and their agents rather than having to request that the U.S. Customs Service act on APHIS’ behalf and order the cargo returned to the port for inspection. We are taking this action after consulting with the Department of Homeland Security and determining that the incorporation of both Customs and APHIS port inspectors into that department has made the proposed change in the regulations unnecessary.

FOR FURTHER INFORMATION CONTACT: Ms. Jane E. Levy, Senior Staff Officer, Quarantine Policy Analysis and Support, PPQ, APHIS, 4700 River Road Unit 60, Riverdale, MD 20737-1236; (301) 734-8259.

SUPPLEMENTARY INFORMATION:

Background

On June 20, 2002, we published in the Federal Register (67 FR 41868-41869, Docket No. 02-011-1) a proposal to amend the regulations pertaining to the inspection of cargo entering the United States to provide that inspectors from the Animal and Plant Health Inspection Service (APHIS) could require that cargo be returned to the port of first arrival or, if convenient, another location as specified by APHIS for inspection when necessary. The proposed rule was intended to simplify the inspection process by allowing APHIS inspectors to deal directly with owners, shippers, brokers, and their agents, rather than having to request that the U.S. Customs Service act on APHIS’ behalf and order the cargo returned to the port for inspection.

We solicited comments for 60 days ending August 19, 2002. We received three comments by that date. On August 27, 2002, we published in the Federal Register (67 FR 54976, Docket No. 02-011-2) a notice that we were reopening the comment period for the proposed rule until September 16, 2002. We did not receive any additional comments by that date.

After consultation with the Department of Homeland Security (DHS), we have determined that proceeding with a final rule is unnecessary since both Customs and APHIS port inspectors have been incorporated into the Border and Transportation Security Division of DHS. Therefore, we are withdrawing the June 20, 2002, proposed rule.

Authority: 7 U.S.C. 450, 7701-7772, and 8301-8317; 21 U.S.C. 136 and 136a; 31 U.S.C. 9701; 42 U.S.C. 4331 and 4332; 7 CFR 2.22, 2.80, and 371.3.

Done in Washington, DC, this 31st day of March, 2004.
Kevin Shea,
Acting Administrator, Animal and Plant Health Inspection Service.

[FR Doc. 04-7739 Filed 4-5-04; 8:45 am]

BILLING CODE 3410-34-P